SECURITIES AND EXCHANGE COMMISSION

[Release No. 34-46461; File No. SR-PCX-2002-33]

Self-Regulatory Organizations; Pacific Exchange, Inc.; Order Granting Approval To Proposed Rule Change To Revise the Process for Designating Arbitrators for Member-to-Member Disputes

September 5, 2002.

On May 30, 2002, the Pacific Exchange, Inc. (“PCX”) filed with the Securities and Exchange Commission (“Commission”), pursuant to section 19(b)(1) of the Securities Exchange Act of 1934 (“Act”) ¹ and Rule 19b-4 thereunder,² a proposed rule change to amend PCX Rule 12.8(e) to revise the process for designating arbitrators for member-to-member disputes.

¹ 15 U.S.C. 78s(b)(1).

² 17 CFR 240.19b-4.

The proposed rule change was published for comment in the Federal Register on July 19, 2002.³ The Commission received no comments regarding the proposed rule change.

³ See Securities Exchange Act Release No. 46190 (July 11, 2002), 67 FR 47590.

After careful review, the Commission finds that the proposed rule change is consistent with the requirements of the Act and the rules and regulations thereunder applicable to a national securities exchange.⁴ Specifically, the Commission finds that the proposal is consistent with section 6(b)(5) of the Act ⁵ because it is designed to promote just and equitable principals of trade, to foster cooperation and coordination with persons engaged in regulating, clearing, settling, processing information with respect to, and facilitating transactions in securities, and to protect investors and the public interest. The Commission notes that the proposed rule change would simplify the PCX arbitrator selection process for Member Controversies by coordinating the rule with existing rules on Public Controversies and provide uniformity with PCX Rules for Public Controversies by raising the amount in controversy from $10,000 to $30,000 as the threshold in determining whether the controversy would be heard by at least three arbitrators. The proposed rule would also provide for a consistent source of arbitrators by using the same arbitrator list for the selection of arbitrators for both Public and Member Controversies.

⁴ In approving this proposal, the Commission has considered the proposed rule's impact on efficiency, competition, and capital formation. 15 U.S.C. 78c(f).

⁵ 15 U.S.C. 78f(b)(5).

It is therefore ordered, pursuant to section 19(b)(2) of the Act,⁶ that the proposed rule change (SR-PCX-2002-33) be, and it hereby is, approved.

⁶ 15 U.S.C. 78s(b)(2).

For the Commission, by the Division of Market Regulation, pursuant to delegated authority.⁷
⁷ 17 CFR 200.30-3(a)(12).
Margaret H. McFarland,
Deputy Secretary.

[FR Doc. 02-23235 Filed 9-11-02; 8:45 am]

BILLING CODE 8010-01-P